DEPARTMENT OF THE INTERIOR

Fish and Wildlife Service

[FWS-R4-ES-2020-N034; FXES11140400000-201-FF04E00000]

Endangered Species; Recovery Permit Applications

AGENCY: Fish and Wildlife Service, Interior.

ACTION: Notice of receipt of permit applications; request for comments.

SUMMARY: We, the U.S. Fish and Wildlife Service, have received applications for permits, permit renewals and/or permit amendments to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by August 11, 2021.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. Mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take were a permit not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 62026D-1 | Catherine Haase, Austin Peay State University, Clarksville, TN | Gray bat (Myotis grisescens), Indiana bat (Myotis sodalis), and northern long-eared bat (Myotis septentrionalis) | Kentucky and Tennessee | Study community structure and habitat use | Hand-capture from culverts, identify, and release | Amendment.
TE 32397A-5 | James Godwin, Auburn University, Auburn, AL | Alabama red-bellied turtle (Pseudemys alabamensis), eastern indigo snake (Drymarchon corais couperi), flattened musk turtle (Sternotherus depressus) and Black Warrior waterdog (Necturus alabamensis) | Alabama and Mississippi | Population management, scientific research, population surveys, and monitoring | Turtles: Capture, handle, mark by marginal scute, PIT-tag, collect tissue and blood samples, conduct oral and cloacal swabbing, salvage hatched or depredated eggs, monitor nests, and insert data logger into nests; Eastern indigo snake: Capture, handle, PIT-tag, collect blood, collect cloacal swab, and scale-clip Black Warrior waterdog: Capture, handle, temporarily hold to photograph and measure, PIT-tag, and collect tail tip tissue sample | Renewal/Amendment.
TE 60238B-1 | Georgia Museum of Natural History, Athens, GA | Indiana bat (Myotis sodalis), gray bat (Myotis grisescens), and northern long-eared bat (Myotis septentrionalis) | Alabama, Georgia, Kentucky, Mississippi, North Carolina, South Carolina, Tennessee, and Virginia | Presence/absence surveys, studies to document habitat use, and population monitoring | Capture with mist nets, handle, identify, and release | Renewal/Amendment.
TE 087176-4 | David Eisenhour, Morehead, KY | Blackside dace (Chrosomus cumberlandensis), relict darter (Etheostoma chienense), duskytail darter (Etheostoma percnurum), Kentucky arrow darter (Etheostoma spilotum), Cumberland darter (Etheostoma susanae), and palezone shiner (Notropis albizonatus) | Kentucky and Tennessee | Presence/absence surveys | Capture, handle, identify, and release | Renewal/Amendment.
TE 022690-5 | Meadowview Biological Research Station, Woodford, VA | Sarracenia oreophila (green pitcher plant), Sarracenia rubra ssp. alabamensis (Alabama canebrake pitcher plant), and Sarracenia rubra ssp. jonesii (mountain sweet pitcher plant) | Virginia | Interstate commerce | Sale of artificially propagated specimens in interstate commerce | Renewal.
TE 83011B-1 | Prescott Weldon, Bristol, VA | Gray bat (Myotis grisescens), Indiana bat (Myotis sodalis), and northern long-eared bat (Myotis septentrionalis) | Alabama, Arkansas, Connecticut, Delaware, Florida, Georgia, Illinois, Indiana, Iowa, Kansas, Kentucky, Louisiana, Maine, Maryland, Massachusetts, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, and collect hair samples | Renewal.
PER 0002010 | Shawn Zeringue-Krosnick, Tennessee Tech, Cookeville, TN | Physaria globosa (Short's bladderpod) | Federal lands in Tennessee | Examination of pollination, reproductive success, and life history traits | Collection of flowers and seeds and collection of one voucher specimen from each population | New.
TE 65002A-2 | Robert Oney, Versailles, KY | Gray bat (Myotis grisescens), Indiana bat (Myotis sodalis), northern long-eared bat (Myotis septentrionalis), and Virginia big-eared bat (Corynorhinus (= Plecotus) townsendii virginianus) | Alabama, Arkansas, Connecticut, Delaware, Florida, Georgia, Illinois, Indiana, Iowa, Kansas, Kentucky, Louisiana, Maine, Maryland, Massachusetts, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, and collect hair samples | Renewal.
TE 148282-6 | Jack Wilhide, Franklin, TN | Gray bat (Myotis grisescens), Indiana bat (Myotis sodalis), northern long-eared bat (Myotis septentrionalis), Ozark big-eared bat (Corynorhinus (= Plecotus) townsendii ingens), and Virginia big-eared bat (Corynorhinus (= Plecotus) townsendii virginianus) | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, light-tag, wing-punch, and collect hair samples | Renewal.
TE 94849B-2 | Copperhead Environmental Consulting, Paint Lick, KY | Gray bat (Myotis grisescens), Indiana bat (Myotis sodalis), northern long-eared bat (Myotis septentrionalis), Ozark big-eared bat (Corynorhinus (= Plecotus) townsendii ingens), and Virginia big-eared bat (Corynorhinus (= Plecotus) townsendii virginianus) | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, Wyoming | Presence/absence surveys, studies to document habitat use, population monitoring, and to evaluate potential impacts of white-nose syndrome or other threats | Enter hibernacula or maternity roost caves, capture with mist nets or harp traps, handle, identify, collect hair samples, band, radio tag, light-tag, swab, and wing-punch | Renewal/Amendment.
PER 0002649 | Joey Weber, Candler, NC | Gray bat (Myotis grisescens), Indiana bat (Myotis sodalis), northern long-eared bat (Myotis septentrionalis), and Virginia big-eared bat (Corynorhinus (= Plecotus) townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, Wyoming | Presence/absence surveys, population monitoring, and studies to document habitat use | Enter hibernacula or maternity roost caves, capture with mist nets or harp traps, handle, identify, band, radio-tag, and collect hair samples | New.
PER 0002076 | California Carnivores, Sebastopol, CA | Pinguicula ionantha (Godfrey's butterwort), Sarracenia oreophila (green pitcher plant), Sarracenia rubra ssp. alabamensis (Alabama canebrake pitcher plant), and Sarracenia rubra ssp. jonesii (mountain Sweet pitcher plant) | California | Interstate commerce | Sale of artificially propagated specimens in interstate commerce | New.
PER 0007863 | Jana Day, Kentucky Transportation Cabinet | FISH: Relict darter (Etheostoma chienense), Kentucky arrow darter (Etheostoma spilotum), Cumberland darter (Etheostoma susanae), palezone shiner (Notropis albizonatus), and blackside dace (Phoxinus cumberlandensis); FRESHWATER MUSSELS: Cumberland elktoe (Alasmidonta atropurpurea), spectaclecase (Cumberlandia monodonta), fanshell (Cyprogenia stegaria), dromedary pearlymussel (Dromus dromas), Cumberlandian combshell (Epioblasma brevidens), oyster mussel (Epioblasma capsaeformis), tan riffleshell (Epioblasma florentina walkeri), purple cat's paw (=purple cat's paw pearlymussel) (Epioblasma obliquata obliquata), white catspaw (pearlymussel) (Epioblasma obliquata perobliqua), northern riffleshell (Epioblasma torulosa rangiana), tubercled blossom (pearlymussel) (Epioblasma torulosa torulosa), snuffbox (Epioblasma triquetra), cracking pearlymussel (Hemistena lata), pink mucket (pearlymussel) (Lampsilis abrupta), scaleshell mussel (Leptodea leptodon), ring pink (mussel) (Obovaria retusa), littlewing pearlymussel (Pegias fabula), white wartyback (pearlymussel) (Plethobasus cicatricosus), orangefoot pimpleback (pearlymussel) (Plethobasus cooperianus), sheepnose mussel (Plethobasus cyphyus), clubshell (Pleurobema clava), rough pigtoe (Pleurobema plenum), slabside pearlymussel (Pleuronaia dolabelloides), fat pocketbook (Potamilus capax), fluted kidneyshell (Ptychobranchus subtentus), rabbitsfoot (Quadrula cylindrica cylindrica), winged mapleleaf (Quadrula fragosa), rayed bean (Villosa fabalis), and Cumberland bean (pearlymussel) (Villosa trabalis); CRAYFISH: Big Sandy crayfish (Cambarus callainus) | Kentucky | Presence/absence surveys | Capture, handle, identify, and release | New.
TE 33465A-2 | USDA Forest Service, National Forests in Alabama, Montgomery, AL | Red-cockaded woodpecker (Picoides borealis) | Alabama, Florida, Georgia, Mississippi, and South Carolina | Population management and monitoring | Capture, band, drill nest cavities, install inserts, install restrictors, install snake and squirrel excluders, monitor nest cavities and artificial nest cavities, and translocate | Amend.
TE 132772-2 | USDA Forest Service, National Forests in Alabama, Montgomery, AL | REPTILE: Flattened musk turtle (Sternotherus depressus); FISH: Blue shiner (Cyprinella caerulea), Cahaba shiner (Notropis cahabae), goldline darter (Percina aurolineata), and rush darter (Etheostoma phytophilum); FRESHWATER MUSSELS: Alabama moccasinshell (Medionidus acutissimus), Alabama pearlshell (Margaritifera marrianae), Coosa moccasinshell (Medionidus parvulus), Cumberlandian combshell (Epioblasma brevidens), dark pigtoe (Pleurobema furvum), fine-lined pocketbook (Lampsilis altilis), fuzzy pigtoe (Pleurobema strodeanum), orange-nacre mucket (Lampsilis perovalis), ovate clubshell (Pleurobema perovatum), southern acornshell (Epioblasma othcaloogensis), southern clubshell (Pleurobema decisum), southern kidneyshell (Ptychobranchus jonesi), southern pigtoe (Pleurobema georgianum ),southern sandshell (Hamiota australis), triangular kidneyshell (Ptychobranchus greenii), and upland combshell (Epioblasma metastriata); FRESHWATER GASTROPODS: Cylindrical lioplax (Lioplax cyclostomaformis), flat pebblesnail (Lepyrium showalteri), lacy elimia (Elimia crenatella), painted rocksnail (Leptoxis taeniata), round rocksnail (Leptoxis ampla), and tulotoma snail (Tulotoma magnifica) | National forests in Alabama | Surveys and population monitoring | Capture, identify, measure, release, and salvage relict shells | Renewal.
TE 12399A-5 | Audubon Nature Institute, New Orleans, LA | Green (Chelonia mydas), Kemp`s ridley (Lepidochelys kempii), hawksbill (Eretmochelys imbricata), leatherback (Dermochelys coriacea), loggerhead (Caretta caretta), and olive ridley (Lepidochelys olivacea) sea turtles | Louisiana | Monitoring of rehabilitated turtles | Insert PIT tag and attach flipper tag prior to release | Renewal.
PER 0002667 | Mitchell D. Kriege, Erlanger, KY | Spectaclecase (Cumberlandia monodonta), fanshell (Cyprogenia stegaria), dromedary pearlymussel (Dromus dromas), Cumberlandian combshell (Epioblasma brevidens), oyster mussel (Epioblasma capsaeformis), purple cat's paw (=purple cat's paw pearlymussel) (Epioblasma obliquata obliquata), white catspaw (pearlymussel) (Epioblasma obliquata perobliqua), northern riffleshell (Epioblasma torulosa rangiana), tubercled blossom (pearlymussel) (Epioblasma torulosa torulosa), snuffbox (Epioblasma triquetra), cracking pearlymussel (Hemistena lata), pink mucket (pearlymussel) (Lampsilis abrupta), Higgins eye (pearlymussel) (Lampsilis higginsii), ring pink (mussel) (Obovaria retusa), white wartyback (pearlymussel) (Plethobasus cicatricosus), orangefoot pimpleback (pearlymussel) (Plethobasus cooperianus), sheepnose mussel (Plethobasus cyphyus), clubshell (Pleurobema clava), James spinymussel (Pleurobema collina), rough pigtoe (Pleurobema plenum), fat pocketbook (Potamilus capax), fluted kidneyshell (Ptychobranchus subtentus), rabbitsfoot (Quadrula cylindrica cylindrica), winged mapleleaf (Quadrula fragosa), rayed bean (Villosa fabalis), and Cumberland bean (pearlymussel) (Villosa trabalis) | Alabama, Arkansas, Georgia, Illinois, Indiana, Iowa, Kansas, Kentucky, Louisiana, Michigan, Minnesota, Mississippi, Missouri, New York, North Carolina, Ohio, Oklahoma, Pennsylvania, Tennessee, Virginia, West Virginia, Wisconsin | Presence/absence surveys | Capture, handle, identify, and release | New.
TE 66445B-1 | Angelina D. Fowler, Nashville, TN | FISH: Blue shiner (Cyprinella caerulea), boulder darter (Etheostoma wapiti), and snail darter (Percina tanasi); CRAYFISH: Nashville crayfish (Orconectes shoupi) | Alabama and Tennessee | Presence/absence surveys | Capture, handle, identify, and release | Renewal.
PER 0002899 | George C. Fullerton, Tallahassee, FL | Red-cockaded woodpecker (Picoides borealis) | Alabama, Arkansas, Florida, Georgia, Louisiana, Mississippi, North Carolina, and South Carolina | Population management and monitoring | Capture, band, drill nest cavities, install inserts, install restrictors, monitor nest cavities and artificial nest cavities, and translocate | New.
PER 0003043 | National Audubon Society, Moss Point, MS | Green (Chelonia mydas), Kemp's ridley (Lepidochelys kempii), hawksbill (Eretmochelys imbricata), leatherback (Dermochelys coriacea), loggerhead (Caretta caretta), and olive ridley (Lepidochelys olivacea) sea turtles | Harrison County, Mississippi | Nest monitoring | Locate and mark nests, excavate nests following hatchling emergence, and inventory hatched nests | New.
TE 171516-9 | Copperhead Environmental Consulting, Inc., Paint Lick, KY | FISH: Kentucky arrow darter (Etheostoma spilotum), Cumberland darter (Etheostoma susanae), and blackside dace (Phoxinus cumberlandensis); FRESHWATER MUSSELS: Cumberland elktoe (Alasmidonta atropurpurea), spectaclecase (Cumberlandia monodonta), fanshell (Cyprogenia stegaria), dromedary pearlymussel (Dromus dromas), Cumberlandian combshell (Epioblasma brevidens), oyster mussel (Epioblasma capsaeformis), yellow blossom (pearlymussel) (Epioblasma florentina florentina), tan riffleshell (Epioblasma florentina walkeri), purple cat's paw (=purple cat's paw pearlymussel) (Epioblasma obliquata obliquata), northern riffleshell (Epioblasma torulosa rangiana), green blossom (pearlymussel) (Epioblasma torulosa gubernaculum), tubercled blossom pearlymussel) (Epioblasma torulosa torulosa), snuffbox (Epioblasma triquetra), turgid blossom pearlymussel) (Epioblasma turgidula), finerayed pigtoe (Fusconaia cuneolus), shiny pigtoe (Fusconaia cor), cracking pearlymussel (Hemistena lata), pink mucket (pearlymussel) (Lampsilis abrupta), scaleshell mussel (Leptodea leptodon), ring pink (mussel) (Obovaria retusa), littlewing pearlymussel (Pegias fabula), white wartyback (pearlymussel) (Plethobasus cicatricosus), orangefoot pimpleback (pearlymussel) (Plethobasus cooperianus), sheepnose mussel (Plethobasus cyphyus), clubshell (Pleurobema clava), James spinymussel (Pleurobema collina), southern clubshell (Pleurobema decisum), rough pigtoe (Pleurobema plenum), slabside pearlymussel (Pleuronaia dolabelloides), fat pocketbook (Potamilus capax), fluted kidneyshell (Ptychobranchus subtentus), rabbitsfoot (Quadrula cylindrica cylindrica), rough rabbitsfoot (Quadrula cylindrica strigillata), Appalachian monkeyface (pearlymussel) (Quadrula sparsa), rayed bean (Villosa fabalis), purple bean (Villosa perpurpurea), and Cumberland bean (pearlymussel) (Villosa trabalis); CRAYFISH: Big Sandy crayfish (Cambarus callainus) | Arkansas, Georgia, Illinois, Indiana, Kentucky, Missouri, Ohio, Tennessee, Virginia, West Virginia, and Wisconsin | Presence/absence surveys | Capture, handle, identify, release, and salvage relict shells | Renewal/Amendment.
TE 88778B-2 | John W. Lamb, Arnold Air Force Base, TN | Gray bat (Myotis grisescens), Indiana bat (Myotis sodalis), and northern long-eared bat (Myotis septentrionalis) | Tennessee | Contaminant study | Collect fur and guano | Amendment.
PER 0004778 | Catherine M. Jachowski, Clemson University, Clemson, SC | Carolina heelsplitter (Lasmigona decorata) | South Carolina | Investigation of impediments to recruitment | Collect glochidia from fish fins and gills to sacrifice for DNA analysis, release captive-reared individuals produced at Orangeburg National Fish Hatchery into silos for growth and survival monitoring that includes weekly handling and measuring | New.
TE 12379D-1 | Robert A. McCleery, University of Florida, Gainesville, FL | Rice rat (silver rice rat) (Oryzomys palustris natator) | Monroe County, Florida, from Little Pine Key to Boca Chica Key | Assessing the impacts of Hurricane Irma on the rice rat | Radio-tag adults and monitor movements | Amendment.
TE 54891B-1 | Luke E. Dodd, Eastern Kentucky University, Richmond, KY | Gray bat (Myotis grisescens), Indiana bat (Myotis sodalis), and northern long-eared bat (Myotis septentrionalis) | Kentucky | Presence/absence surveys and studies to document habitat use | Enter hibernacula or maternity roost caves, salvage dead bats, capture with mist nets and harp-traps, handle, identify, collect hair, band, attach radio-transmitters, swab, and wing-punch | Renewal.
TE 069754-7 | Gerald R. Dinkins, Knoxville, TN | FISH: 38 species; FRESHWATER MUSSELS: 88 species; FRESHWATER GASTROPODS: 14 species | Alabama, Arkansas, Florida, Georgia, Illinois, Indiana, Iowa, Kansas, Kentucky, Louisiana, Maryland, Michigan, Minnesota, Mississippi, Missouri, North Carolina, Ohio, Pennsylvania, South Carolina, Tennessee, Virginia, West Virginia, and Wisconsin | Presence/absence surveys | Capture, handle, identify, release, and salvage relict shells | Renewal/Amendment.
TE 62778B-2 | Chanston T. Osborne, Aberdeen, NC | Gray bat (Myotis grisescens), Indiana bat (Myotis sodalis), and northern long-eared bat (Myotis septentrionalis) | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys | Capture with mist nets and harp traps, handle, identify, band, and attach radio transmitters | Renewal.
TE 237537-2 | Missouri Botanical Garden, St. Louis, MO | Price's potato bean (Apios priceana), Cumberland sandwort (Arenaria cumberlandensis), Mead's milkweed (Asclepias meadii), Guthrie's (=Pyne's) ground-plum (Astragalus bibullatus), decurrent false aster (Boltonia decurrens), Cumberland rosemary (Conradina verticillata), leafy prairie clover (Dalea foliosa), tiny tim (Geocarpon minimum), Virginia sneezeweed (Helenium virginicum), fleshyfruit gladecress (Leavenworthia crassa), Mohr's Barbara's button (Marshallia mohrii), Missouri bladderpod (Physaria filiformis), Short's bladderpod (Physaria globose), Virginia spiraea (Spiraea virginiana), running buffalo clover (Trifolium stoloniferum), and Tennessee yellow-eyed grass (Xyris tennesseensis) | On lands under Federal jurisdiction in Alabama, Illinois, Kentucky, Mississippi, Missouri, Tennessee, Virginia, and West Virginia | Ex situ seed banking, artificial propagation, conservation research, educational display, and genetic analyses | Remove and reduce to possession (collect) seeds and leaves | Renewal/Amendment.
TE 059008-9 | CCR Environmental, Inc., Atlanta, GA | REPTILES: Eastern indigo snake (Drymarchon corais couperi), gopher tortoise (Gopherus polyphemus), yellow-blotched map turtle (Graptemys flavimaculata), ringed map turtle (Graptemys oculifera), black pine snake (Pituophis melanoleucus lodingi), Alabama red-bellied turtle (Pseudemys alabamensis), and flattened musk turtle (Sternotherus depressus); AMPHIBIANS: Reticulated flatwoods salamander (Ambystoma bishopi), frosted flatwoods salamander (Ambystoma cingulatum), Black warrior (=Sipsey Fork) waterdog (Necturus alabamensis), Red Hills salamander (Phaeognathus hubrichti), and dusky gopher frog (Rana sevosa); FISH: 45 species; FRESHWATER MUSSELS: 81 species; FRESHWATER GASTROPODS: 12 species; CRAYFISH: Nashville crayfish (Orconectes shoupi) | Alabama, Arkansas, Florida, Georgia, Kentucky, Louisiana, Mississippi, South Carolina, and Tennessee | Presence/absence surveys | Capture, identify, release, and salvage relict shells | Renewal/Amendment.
TE 59798B-2 | Daguna Consulting, LLC, Rochester, MN | Dwarf wedgemussel (Alasmidonta heterodon), yellow lance (Elliptio lanceolata), and James spinymussel (Pleurobema collina) | Virginia | Presence/absence surveys | Capture, handle, identify, measure, age by examining growth rings, sex, photograph, PIT-tag or plastic shell tag, mark, and release | Amendment.
TE 13910A-3 | Terry L. Derting, Murray State University, Murray, KY | Gray bat (Myotis grisescens), Indiana bat (Myotis sodalis), northern long-eared bat (Myotis septentrionalis), Virginia big-eared bat (Corynorhinus townsendii virginianus), and Ozark big-eared bat (Corynorhinus townsendii ingens) | Georgia, Indiana, Kentucky, Ohio, Tennessee, and West Virginia | Presence/absence surveys, habitat use studies, population monitoring, and studies to evaluate potential impacts of white-nose syndrome or other threats | Enter hibernacula or maternity roost caves, salvage dead bats, capture with mist nets and harp-traps, handle, identify, collect hair, band, attach radio-transmitters, light-tag, swab, and wing-punch | Renewal.
TE 89785B-1 | North Florida Wildlife, LLC, Crawfordville, FL | Red-cockaded woodpecker (Picoides borealis) | Alabama, Florida, Georgia, Louisiana, Mississippi, North Carolina, Oklahoma, South Carolina, Texas, and Virginia | Population management and monitoring | Capture, band, monitor nest cavities, construct and monitor artificial nest cavities and restrictors, and translocate | Renewal.
TE 34778A-3 | U.S. Geological Survey, Blacksburg, VA | Gray bats (Myotis grisescens), Indiana bat (Myotis sodalis), northern long-eared bat (Myotis septentrionalis), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys, habitat use studies, population monitoring, and studies on potential impacts of white-nose syndrome or other threats | Enter hibernacula or maternity roost caves, salvage dead bats, capture with mist nets or harp traps, handle, identify, collect hair samples, band, radio tag, light-tag, swab, and wing-punch | Renewal.
TE 84997D-0 | James V. Freeman, Williston, FL | Cereus eriophorus var. fragrans (fragrant prickly-apple) and Harrisia (= Cereus) aboriginum (= gracilis) (aboriginal prickly-apple) | Florida | Interstate commerce | Sell artificially propagated plants in interstate commerce | New.
TE 087191-6 | Sandhills Ecological Institute, Southern Pines, NC | Red-cockaded woodpecker (Picoides borealis) | North Carolina and South Carolina | Disease research | Capture and recapture birds that exhibit Avian Keratin Disorder to monitor their fate in the population | Amendment.
ES 56588D-2 | Martin J. Melville, Marietta, GA | FISH: Spring pygmy sunfish (Elassoma alabamae), vermilion darter (Etheostoma chermocki), watercress darter (Etheostoma nuchale), and Cahaba shiner (Notropis cahabae); FRESHWATER MUSSELS: Purple cat's paw (=purple cat's paw pearlymussel) (Epioblasma obliquata obliquata), Alabama pearlshell (Margaritifera marrianae), black clubshell (Pleurobema curtum), dark pigtoe (Pleurobema furvum), flat pigtoe (Pleurobema marshalli), heavy pigtoe (Pleurobema taitianum), inflated heelsplitter (Potamilus inflatus), and stirrupshell (Quadrula stapes) | Alabama and Virginia | Presence/absence surveys | Capture, handle, identify, release, and salvage relict shells | Amendment.
PER 0009923 | South Carolina Department of Natural Resources, Columbia, SC | Carolina heelsplitter (Lasmigona decorata) | South Carolina | Captive propagation for research and reintroduction | Capture, hold in captivity for more than 45 consecutive days, toxicity testing and other studies, and reintroduction | New.
TE 121073-3 | Christopher E. Skelton, Madison, GA | FISH: Laurel dace (Chrosomus saylori), blue shiner (Cyprinella caerulea), bluemask darter (Etheostoma akatulo), Etowah darter (Etheostoma etowahae), duskytail darter (Etheostoma percnurum), Cherokee darter (Etheostoma scotti), Cumberland darter (Etheostoma susanae), boulder darter (Etheostoma wapiti), palezone shiner (Notropis albizonatus), smoky madtom (Noturus baileyi), chucky madtom (Noturus crypticus), pygmy madtom (Noturus stanauli), amber darter (Percina antesella), goldline darter (Percina aurolineata), Conasauga logperch (Percina jenkinsi), snail darter (Percina tanasi), and blackside dace (Phoxinus cumberlandensis); | Alabama, Florida, Georgia, and Tennessee | Presence/absence surveys | Capture, handle, identify, release, and salvage relict shells | Renewal.
|  | FRESHWATER MUSSELS: Fat threeridge (mussel) (Amblema neislerii), purple bankclimber (mussel) (Elliptoideus sloatianus), Altamaha spinymussel (Elliptio spinosa), upland combshell (Epioblasma metastriata), southern acornshell (Epioblasma othcaloogensis), southern combshell (Epioblasma penita), fine-lined pocketbook (Lampsilis altilis), orangenacre mucket (Lampsilis perovalis), shinyrayed pocketbook (Lampsilis subangulata); Coosa moccasinshell (Medionidus parvulus), Gulf moccasinshell (Medionidus pencillatus), Ochlockonee moccasinshell (Medionidus simpsonianus), southern clubshell (Pleurobema decisum), southern pigtoe (Pleurobema georgianum), Georgia pigtoe (Pleurobema hanleyianum), flat pigtoe (Pleurobema marshalli), ovate clubshell (Pleurobema perovatum), oval pigtoe (Pleurobema pyriforme), and triangular kidneyshell (Ptychobranchus greeni); FRESHWATER GASTROPOD: Interrupted (=Georgia) rocksnail (Leptoxis foremani); CRAYFISH: Nashville crayfish (Orconectes shoupi)
TE 111326-3 | Christopher A. Fleming, Nashville, TN | Nashville crayfish (Orconectes shoupi) | Tennessee | Presence/absence surveys | Capture, identify, sex, and measure | Renewal.
PER 0010455 | Kira Lindelof, North Carolina University, Raleigh, NC | Hedyotis purpurea var. montana (Roan Mountain bluet) | Pisgah National Forest, North Carolina | Research on genetics and habitable range | Tissue and seed collection, propagation, and augmentation | New.
TE 37652B-1 | Blue Ridge Parkway, National Park Service, Asheville, NC | Helianthus verticillatus (whorled sunflower) | Blue Ridge Parkway, Franklin County, Virginia | Voucher specimen for species confirmation | Collection of stem, leaves, and flowers | Amendment.
TE 807672-19 | Joseph H. Carter, Southern Pines, NC | Red-cockaded woodpecker (Picoides borealis | Alabama, Florida, Georgia, Louisiana, Mississippi, North Carolina, South Carolina, Texas, and Virginia | Population management and monitoring and investigation of possible parasites and infections | Capture, band, monitor nest cavities, construct and monitor artificial nest cavities and restrictors, translocate, recapture to remove color bands, and swab | Renewal.
TE 676379-6 | NOAA/National Marine Fisheries Service, Southeast Fisheries Science Center, Pascagoula, MS | Leatherback sea turtle (Dermochelys coriacea), hawksbill sea turtle (Eretmochelys imbricata), and Kemp's ridley sea turtle (Lepidochelys kempii) | Alabama, Florida, Georgia, Louisiana, Mississippi, North Carolina, South Carolina, and Texas | Population monitoring | PIT-tag and flipper tag stranded, incidentally captured, cold-stunned, and rehabilitated individuals | Amendment.
TE 054973-6 | Nick M. Haddad, Michigan State University, Hickory Corners, MI | Saint Francis' satyr butterfly (Neonympha mitchellii francisci) | North Carolina | Population monitoring, scientific research, captive propagation, and reintroduction | Capture up to 20 adult butterflies annually for captive rearing and breeding and transport specimens to Michigan State University | Amendment.
TE 65346A-2 | Matthew S. Roberts, Richmond, KY | Gray bat (Myotis grisescens), Indiana bat (Myotis sodalis), and northern long-eared bat (Myotis septentrionalis) | Alabama, Arkansas, Connecticut, Delaware, Florida, Georgia, Illinois, Indiana, Iowa, Kansas, Kentucky, Louisiana, Maine, Maryland, Massachusetts, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, collect hair samples, and salvage | Renewal.

Authority

We publish this notice under section 10(c) of the Endangered Species Act of 1973, as amended (16 U.S.C. 1531 et seq.).

John Tirpak,
Deputy Assistant Regional Director, Ecological Services.

[FR Doc. 2021-14683 Filed 7-9-21; 8:45 am]

BILLING CODE 4333-15-P